DEPARTMENT OF COMMERCE

National Oceanic and Atmospheric Administration

50 CFR Part 223

RIN 0648-XZ59

Endangered and Threatened Species; Proposed Threatened Status for Subspecies of the Ringed Seal

AGENCY: National Marine Fisheries Service (NMFS), National Oceanic and Atmospheric Administration (NOAA), Commerce.

ACTION: Proposed rule; notice of availability and opening of comment period.

SUMMARY: NMFS has conducted special independent peer review of the December 2010 status review report of the ringed seal (Phoca hispida) under the Endangered Species Act of 1973, as amended (ESA). This notice announces availability of a peer review report that consolidates the comments received from the reviewers and the opening of a 30-day public comment period on that report. Please note that comments previously submitted need not be resubmitted since they are already part of the record and will be considered when NMFS makes its final determination.

DATES: Comments and information must be received by May 7, 2012.

ADDRESSES: Send comments to Jon Kurland, Assistant Regional Administrator, Protected Resources Division, Alaska Region, NMFS, Attn: Ellen Sebastian. You may submit comments, identified by FDMS Docket Number NOAA-NMFS-2010-0258, by any one of the following methods:

Electronic Submissions: Submit all electronic public comments via the Federal eRulemaking Portal http://www.regulations.gov. To submit comments via the e-Rulemaking Portal, first click the “submit a comment” icon, then enter NOAA-NMFS-2010-0258 in the keyword search. Locate the document you wish to comment on from the resulting list and click on the “Submit a Comment” icon on the right of that line.

Mail: Submit written comments to P.O. Box 21668, Juneau, AK 99802.

Fax: (907) 586-7557.

Hand delivery to the Federal Building: 709 West 9th Street, Room 420A, Juneau, AK.

Comments must be submitted by one of the above methods to ensure that the comments are received, documented, and considered by NMFS. Comments sent by any other method, to any other address or individual, or received after the end of the comment period, may not be considered.

All comments received are a part of the public record and will generally be posted for public viewing on www.regulations.gov without change. All personal identifying information (e.g., name, address, etc.) submitted voluntarily by the sender will be publicly accessible. Do not submit confidential business information, or otherwise sensitive or protected information.

NMFS will accept anonymous comments (enter “N/A” in the required fields if you wish to remain anonymous). Attachments to electronic comments will be accepted in Microsoft Word or Excel, WordPerfect, or Adobe PDF file formats only.

For information on obtaining a copy of the peer review report, see the “Obtaining a Copy of the Peer Review Report” section below.

FOR FURTHER INFORMATION CONTACT: Tamara Olson, NMFS Alaska Region, (907) 271-5006; Jon Kurland, NMFS Alaska Region, (907) 586-7638; or Marta Nammack, Office of Protected Resources, Silver Spring, MD (301) 713-1401.

SUPPLEMENTARY INFORMATION:

Background

On December 10, 2010, NMFS made a 12-month petition finding and proposed to list the Arctic (Phoca hispida hispida), Baltic (Phoca hispida botnica), Okhotsk (Phoca hispida ochotensis), and Ladoga (Phoca hispida ladogensis) subspecies of ringed seals as threatened (75 FR 77476). On December 13, 2011, in consideration of substantial disagreement regarding the sufficiency or accuracy of the model projections and analysis of future sea ice habitat, in particular snow cover, for Arctic ringed seals, NMFS announced a 6-month extension of the deadline for the final listing determination to June 10, 2012 (FR 77466). At that time, we also announced that we were conducting special independent peer review of the sections of the status review report of the ringed seal (Kelly et al., 2010) related to the disagreement, and that the resulting peer review report would be made available for public comment.

We have conducted this special peer review, and are notifying the public of the availability of a peer review report that consolidates the comments received. We are also providing the public an opportunity to submit comments or information on the peer review report for 30 days. The comment period shall be limited to 30 days because the statutory deadline requires a final listing determination by June 10, 2012.

Obtaining a Copy of the Peer Review Report

You may obtain a copy of the peer review report for review:

Via the Federal eRulemaking Portal http://www.regulations.gov at Docket No. NOAA-NMFS-2010-0258.

By visiting the Internet at: http://alaskafisheries.noaa.gov/protectedresources/seals/ice.htm.

Documents cited in this notice, including the peer review report, may also be viewed, by appointment, during regular business hours, at the aforementioned address in Juneau, AK (see ADDRESSES).

Public Comments Solicited

Comments and information submitted during the initial comment period on the December 10, 2011 (75 FR 77476), proposed rule should not be resubmitted since they are already part of the record. Comments and information submitted should focus on the information contained in the peer review report listed above. Our final determination of whether Arctic, Okhotsk, Baltic, and Ladoga ringed seals qualify as threatened or endangered under the ESA will take into consideration all comments and information we receive and have previously received during both comment periods. We request that all comments and information be accompanied by supporting documentation such as maps, bibliographic references, or reprints of pertinent publications. Please submit any comments to the ADDRESSES listed above.

Authority: 16 U.S.C. 1531 et seq.

Dated: April 2, 2012.
Alan D. Risenhoover,
Acting Deputy Assistant Administrator for Regulatory Programs, National Marine Fisheries Service.

[FR Doc. 2012-8371 Filed 4-5-12; 8:45 am]

BILLING CODE 3510-22-P